DEPARTMENT OF TRANSPORTATION

Federal Aviation Administration

14 CFR Part 39

[Docket No. FAA-2014-0195; Directorate Identifier 2013-NM-195-AD]

RIN 2120-AA64

Airworthiness Directives; The Boeing Company Airplanes

AGENCY: Federal Aviation Administration (FAA), DOT.

ACTION: Notice of proposed rulemaking (NPRM).

SUMMARY: We propose to supersede Airworthiness Directive (AD) 2008-17-03, which applies to certain The Boeing Company Model 737-100, -200, -200C, -300, -400, and -500 series airplanes. AD 2008-17-03 currently requires repetitive inspections to detect fuselage frame cracking, and corrective action if necessary. AD 2008-17-03 also provides for optional terminating action (repair/preventive change) for the repetitive inspections. Since we issued AD 2008-17-03, we have determined that additional airplanes may be subject to the identified unsafe condition. This proposed AD would add airplanes to the applicability. For the newly added airplanes, however, this proposed AD would not provide terminating action for the repetitive inspections because service information has not been provided for a repair/preventive change. We are proposing this AD to detect and correct fuselage frame cracking, which could prevent the left forward entry door from sealing correctly, and could cause in-flight decompression of the airplane.

DATES: We must receive comments on this proposed AD by May 29, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0195; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Alan Pohl, Aerospace Engineer, Airframe Branch, ANM-120S, FAA, Seattle Aircraft Certification Office (ACO), 1601 Lind Avenue SW., Renton, WA 98057-3356; phone: 425-917-6450; fax: 425-917-6590; email: alan.pohl@faa.gov.

SUPPLEMENTARY INFORMATION:

Comments Invited

We invite you to send any written relevant data, views, or arguments about this proposed AD. Send your comments to an address listed under the ADDRESSES section. Include “Docket No. FAA-2014-0195; Directorate Identifier 2013-NM-195-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 6, 2008, we issued AD 2008-17-03, Amendment 39-15641 (73 FR 48288, August 19, 2008), for certain The Boeing Company Model 737-100, -200, -200C, -300, -400, and -500 series airplanes. AD 2008-17-03 required repetitive inspections to detect cracking of the body station 303.9 frame, and corrective action if necessary. AD 2008-17-03 also provided for optional terminating action for the repetitive inspections. AD 2008-17-03 resulted from reports of cracks found at the cutout in the web of body station frame 303.9 inboard of stringer 16L. We issued AD 2008-17-03 to detect and correct such cracking, which could prevent the left forward entry door from sealing correctly, and could cause in-flight decompression of the airplane.

Actions Since AD 2008-17-03, Amendment 39-15641 (73 FR 48288, August 19, 2008), Was Issued

Since we issued AD 2008-17-03, Amendment 39-15641 (73 FR 48288, August 19, 2008), we have been advised that cracking has been discovered on an airplane outside the applicability of AD 2008-17-03.

Relevant Service Information

We reviewed Boeing Alert Service Bulletin 737-53A1188, Revision 3, dated September 6, 2013. For information on the procedures and compliance times, see this service information at http://www.regulations.gov by searching for Docket No. FAA-2014-0195.

FAA's Determination

We are proposing this AD because we evaluated all the relevant information and determined the unsafe condition described previously is likely to exist or develop in other products of the same type design.

Proposed AD Requirements

This proposed AD would retain the requirements of AD 2008-17-03, Amendment 39-15641 (73 FR 48288, August 19, 2008). This proposed AD would add airplanes to the applicability. This proposed AD would require accomplishing the actions specified in the service information described previously, except as discussed under “Differences Between the Proposed AD and the Service Information.”

The phrase “corrective actions” is used in this proposed AD. “Corrective actions” correct or address any condition found. Corrective actions in an AD could include, for example, repairs.

Differences Between the Proposed AD and the Service Information

The service information specifies to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD affects 148 airplanes of U.S. registry. We estimate the following costs to comply with this proposed AD:

Estimated Costs: Required Actions
Action | Labor cost | Parts cost | Cost per product | Cost on U.S. operators
Inspection | 31 to 33 work-hours × $85 per hour = up to $2,805 per inspection cycle | $0 | Up to $2,805 per inspection cycle | Up to $415,140 per inspection cycle.

Estimated Costs: Optional Modification
Action | Labor cost | Parts cost | Cost per product
Repair/preventive change | 12 to 30 work-hours × $85 per hour = up to $2,550 | $564 to $2,236 | Up to $4,786.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2008-17-03, Amendment 39-15641 (73 FR 48288, August 19, 2008), and adding the following new AD:

The Boeing Company: Docket No. FAA-2014-0195; Directorate Identifier 2013-NM-195-AD.

(a) Comments Due Date

The FAA must receive comments on this AD action by May 29, 2014.

(b) Affected ADs

This AD supersedes AD 2008-17-03, Amendment 39-15641 (73 FR 48288, August 19, 2008).

(c) Applicability

This AD applies to The Boeing Company airplanes, certificated in any category, identified in paragraphs (c)(1) and (c)(2) of this AD.

(1) Model 737-100, -200, -200C, -300, -400, and -500 series airplanes, as identified in Boeing Alert Service Bulletin 737-53A1197, dated August 25, 2006.

(2) Model 737-300, -400, and -500 series airplanes, as identified in Boeing Alert Service Bulletin 737-53A1188, Revision 3, dated September 6, 2013.

(d) Subject

Air Transport Association (ATA) of America Code 53, Fuselage.

(e) Unsafe Condition

This AD was prompted by reports of cracks found at the cutout in the web of body station frame 303.9 inboard of stringer 16L, and a new report of cracking found on an airplane not included in the applicability of AD 2008-17-03, Amendment 39-15641 (73 FR 48288, August 19, 2008). We are issuing this AD to detect and correct such cracking, which could prevent the left forward entry door from sealing correctly, and could cause in-flight decompression of the airplane.

(f) Compliance

Comply with this AD within the compliance times specified, unless already done.

(g) Retained Repetitive Inspections: Group 1 Airplanes, Boeing Alert Service Bulletin 737-53A1188, Revision 2, Dated May 9, 2007, or Boeing Alert Service Bulletin 737-53A1188, Revision 3, Dated September 6, 2013, With Revised Service Information

This paragraph restates the requirements of paragraph (f) of AD 2008-17-03, Amendment 39-15641 (73 FR 48288, August 19, 2008), with revised service information and airplane groupings. For airplanes identified as Group 1 in Boeing Alert Service Bulletin 737-53A1188, Revision 3, dated September 6, 2013: Do detailed and high frequency eddy current (HFEC) inspections in the web and doubler around the slotted holes in the frame web at stringers 15L and 16L, in accordance with the Accomplishment Instructions of Boeing Alert Service Bulletin 737-53A1188, Revision 2, dated May 9, 2007; or Boeing Alert Service Bulletin 737-53A1188, Revision 3, dated September 6, 2013. Do the inspections at the applicable time specified in paragraph 1.E., “Compliance,” of Boeing Alert Service Bulletin 737-53A1188, Revision 3, dated September 6, 2013. Do all applicable corrective actions before further flight in accordance with Boeing Alert Service Bulletin 737-53A1188, Revision 2, dated May 9, 2007; or Boeing Alert Service Bulletin 737-53A1188, Revision 3, dated September 6, 2013; except as provided by paragraph (j)(3) of this AD. Repeat the inspections at intervals not to exceed 4,500 flight cycles, until accomplishment of the repair/preventive change in accordance with Boeing Alert Service Bulletin 737-53A1188, Revision 2, dated May 9, 2007; or Boeing Alert Service Bulletin 737-53A1188, Revision 3, dated September 6, 2013; which terminates the repetitive inspection requirements for the airplanes identified in this paragraph. A repair/preventive change done using Boeing Alert Service Bulletin 737-53A1188, dated April 9, 1998; or Boeing Alert Service Bulletin 737-53A1188, Revision 1, dated March 18, 1999; does not terminate the repetitive inspections, but the repetitive inspections may be terminated after the existing kit is replaced with a new kit in accordance with paragraph 3.B., Part II, step 3, or Part III, step 3, of Boeing Alert Service Bulletin 737-53A1188, Revision 2, dated May 9, 2007. As of the effective date of this AD, only Boeing Alert Service Bulletin 737-53A1188, Revision 3, dated September 6, 2013, may be used to do the actions required by this paragraph.

Note 1 to paragraph (g) of this AD: Airplanes identified as Group 1 in Boeing Alert Service Bulletin 737-53A1188, Revision 3, dated September 6, 2013, are the same as those identified in Boeing Alert Service Bulletin 737-53A1188, Revision 2, dated May 9, 2007.

(h) Retained Repetitive Inspections: Boeing Alert Service Bulletin 737-53A1197, Dated August 25, 2006

This paragraph restates the requirements of paragraph (g) of AD 2008-17-03, Amendment 39-15641 (73 FR 48288, August 19, 2008). For airplanes identified in Boeing Alert Service Bulletin 737-53A1197, dated August 25, 2006: Do an ultrasound inspection of the slot-shaped cutout in the web for the door stop strap at stringer 16L, an HFEC inspection of the web along the upper and lower edges of the doubler around the doorstop strap at stringer 16L, and a detailed inspection of the web around the doubler for the cutout at stringer 16L, in accordance with the Accomplishment Instructions of Boeing Alert Service Bulletin 737-53A1197, dated August 25, 2006. Do the inspections at the applicable time specified in paragraph 1.E., “Compliance,” of Boeing Alert Service Bulletin 737-53A1197, dated August 25, 2006, except as provided by paragraph (j)(2) of this AD. Do all applicable corrective actions before further flight in accordance with Boeing Alert Service Bulletin 737-53A1197, dated August 25, 2006, except as provided by paragraph (j)(3) of this AD. Repeat the inspections at intervals not to exceed 4,500 flight cycles, until accomplishment of the repair/preventive change in accordance with Boeing Alert Service Bulletin 737-53A1197, dated August 25, 2006, which terminates the repetitive inspections.

(i) New Repetitive Inspections: Group 2 Airplanes, Boeing Alert Service Bulletin 737-53A1188, Revision 3, Dated September 6, 2013

For airplanes identified as Group 2 in Boeing Alert Service Bulletin 737-53A1188, Revision 3, dated September 6, 2013: At the applicable times specified in Table 3 of paragraph 1.E., “Compliance,” of Boeing Alert Service Bulletin 737-53A1188, Revision 3, dated September 6, 2013, except as required by paragraph (j)(1) of this AD: Do detailed and HFEC inspections for cracking in the web of the body station 303.9 frame at stringer 15L, and do all applicable corrective actions, in accordance with the Accomplishment Instructions of Boeing Alert Service Bulletin 737-53A1188, Revision 3, dated September 6, 2013, except as required by paragraph (j)(3) of this AD. Do all applicable corrective actions before further flight. Repeat the inspection thereafter at the applicable time specified in Table 3 of paragraph 1.E., “Compliance,” of Boeing Alert Service Bulletin 737-53A1188, Revision 3, dated September 6, 2013. Accomplishment of a repair using a method approved in accordance with the procedures specified in paragraph (k) of this AD terminates the repetitive inspections required by this paragraph for the area covered by the repair.

(j) Exceptions to Service Information Specifications

(1) Where Boeing Alert Service Bulletin 737-53A1188, Revision 3, dated September 6, 2013, specifies a compliance time “after the Revision 3 date of this service bulletin,” this AD requires compliance within the specified time after the effective date of this AD.

(2) Where Boeing Alert Service Bulletin 737-53A1197, dated August 25, 2006, specifies a compliance time “After the Date of this Service Bulletin,” this AD requires compliance for paragraph (h) of this AD within the specified time after September 23, 2008 (the effective date of AD 2008-17-03, Amendment 39-15641 (73 FR 48288, August 19, 2008)). For the initial inspection, the grace period for airplanes that have exceeded the specified threshold is extended to 4,500 flight cycles after September 23, 2008 (the effective date of AD 2008-17-03).

(3) Where Boeing Alert Service Bulletin 737-53A1188, Revision 2, dated May 9, 2007; Boeing Alert Service Bulletin 737-53A1188, Revision 3, dated September 6, 2013; and Boeing Alert Service Bulletin 737-53A1197, dated August 25, 2006; specify to contact Boeing for appropriate action, including repair of damage outside the scope of the service information, repair using a method approved in accordance with the procedures specified in paragraph (k) of this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved for AD 2008-17-03, Amendment 39-15641 (73 FR 48288, August 19, 2008), are approved as AMOCs for the corresponding provisions of this AD.

(l) Related Information

(1) For more information about this AD, contact Alan Pohl, Aerospace Engineer, Airframe Branch, ANM-120S, FAA, Seattle Aircraft Certification Office (ACO), 1601 Lind Avenue SW., Renton, WA 98057-3356; phone: 425-917-6450; fax: 425-917-6590; email: alan.pohl@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view the referenced service information at the FAA, Transport Airplane Directorate, 1601 Lind Avenue SW., Renton, WA. For information on the availability of this material at the FAA, call 425-227-1221.

Issued in Renton, Washington, on April 4, 2014.
Jeffrey E. Duven,
Manager, Transport Airplane Directorate, Aircraft Certification Service.

[FR Doc. 2014-08301 Filed 4-11-14; 8:45 am]

BILLING CODE 4910-13-P